DEPARTMENT OF ENERGY

Federal Energy Regulatory Commission

Combined Notice of Filings #1

Take notice that the Commission received the following electric rate filings:

Docket Numbers: ER22-2867-004.

Applicants: Bluegrass Solar, LLC.

Description: Compliance filing: Revised Rate Schedule After Commercial Operation to be effective 10/1/2022.

Filed Date: 8/18/23.

Accession Number: 20230818-5114.

Comment Date: 5 p.m. ET 9/8/23.

Docket Numbers: ER23-2649-000.

Applicants: PJM Interconnection, L.L.C.

Description: § 205(d) Rate Filing: Interconnection Reliability Operating Limit Critical Resource Cost Recovery to be effective 10/18/2023.

Filed Date: 8/18/23.

Accession Number: 20230818-5039.

Comment Date: 5 p.m. ET 9/8/23.

Docket Numbers: ER23-2650-000.

Applicants: Southwest Power Pool, Inc.

Description: § 205(d) Rate Filing: Revisions to Attachment AE to Define Aggregator of Retail Customers to be effective 10/18/2023.

Filed Date: 8/18/23.

Accession Number: 20230818-5045.

Comment Date: 5 p.m. ET 9/8/23.

Docket Numbers: ER23-2651-000.

Applicants: Midcontinent Independent System Operator, Inc., Union Electric Company.

Description: § 205(d) Rate Filing: Midcontinent Independent System Operator, Inc. submits tariff filing per 35.13(a)(2)(iii) 2023-08-18_SA 4154 UEC-MEC-AECI TIA to be effective 10/18/2023.

Filed Date: 8/18/23.

Accession Number: 20230818-5070.

Comment Date: 5 p.m. ET 9/8/23.

Docket Numbers: ER23-2652-000.

Applicants: Georgia Power Company.

Description: Tariff Amendment: SR Cedar Springs Affected System Construction Agt (GPAS 015) Termination Filing to be effective 10/17/2023.

Filed Date: 8/18/23.

Accession Number: 20230818-5088.

Comment Date: 5 p.m. ET 9/8/23.

Docket Numbers: ER23-2653-000.

Applicants: Alabama Power Company, Georgia Power Company, Mississippi Power Company.

Description: § 205(d) Rate Filing: Alabama Power Company submits tariff filing per 35.13(a)(2)(iii) Wirth Forestry Solar LGIA Filing to be effective 8/7/2023.

Filed Date: 8/18/23.

Accession Number: 20230818-5090.

Comment Date: 5 p.m. ET 9/8/23.

Docket Numbers: ER23-2654-000.

Applicants: PJM Interconnection, L.L.C.

Description: § 205(d) Rate Filing: Revisions to OA, Sch. 12 & RAA, Sch. 17 for 1 & 2Q 2023 re: Member Lists to be effective 6/30/2023.

Filed Date: 8/18/23.

Accession Number: 20230818-5102.

Comment Date: 5 p.m. ET 9/8/23.

Docket Numbers: ER23-2655-000.

Applicants: Northern Indiana Public Service Company LLC.

Description: § 205(d) Rate Filing: Green Acres CIAC to be effective 8/15/2023.

Filed Date: 8/18/23.

Accession Number: 20230818-5111.

Comment Date: 5 p.m. ET 9/8/23.

Docket Numbers: ER23-2656-000.

Applicants: Louisville Gas and Electric Company.

Description: Compliance filing: Remand Compliance Filing LGE and KU Joint Rate Schedule FERC No. 525 to be effective 12/31/9998.

Filed Date: 8/18/23.

Accession Number: 20230818-5118.

Comment Date: 5 p.m. ET 9/8/23.

Docket Numbers: ER23-2657-000.

Applicants: Emera Energy LNG, LLC.

Description: § 205(d) Rate Filing: Emera Energy LNG, LLC—Amended Market-Based Rate Tariff to be effective 10/18/2023.

Filed Date: 8/18/23.

Accession Number: 20230818-5160.

Comment Date: 5 p.m. ET 9/8/23.

Docket Numbers: ER23-2658-000.

Applicants: Emera Energy Services Subsidiary No. 11 LLC.

Description: § 205(d) Rate Filing: Emera Energy Services Subsidiary No. 11—Amended Market-Based Rate Tariff to be effective 10/18/2023.

Filed Date: 8/18/23.

Accession Number: 20230818-5163

Comment Date: 5 p.m. ET 9/8/23

Docket Numbers: ER23-2659-000.

Applicants: Emera Energy Services Subsidiary No. 12 LLC.

Description: § 205(d) Rate Filing: Emera Energy Services Subsidiary No. 12—Amended Market-Based Rate Tariff to be effective 10/18/2023.

Filed Date: 8/18/23.

Accession Number: 20230818-5169.

Comment Date: 5 p.m. ET 9/8/23.

Docket Numbers: ER23-2660-000.

Applicants: Emera Energy Services Subsidiary No. 13 LLC.

Description: § 205(d) Rate Filing: Emera Energy Services Subsidiary No. 13—Amended Market-Based Rate Tariff to be effective 10/18/2023.

Filed Date: 8/18/23.

Accession Number: 20230818-5173.

Comment Date: 5 p.m. ET 9/8/23.

Docket Numbers: ER23-2661-000.

Applicants: Emera Energy Services Subsidiary No. 15 LLC.

Description: § 205(d) Rate Filing: Emera Energy Services Subsidiary No. 15—Amended Market-Based Rate Tariff to be effective 10/18/2023.

Filed Date: 8/18/23.

Accession Number: 20230818-5177.

Comment Date: 5 p.m. ET 9/8/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: August 18, 2023.
Debbie-Anne A. Reese,
Deputy Secretary.

[FR Doc. 2023-18255 Filed 8-23-23; 8:45 am]

BILLING CODE 6717-01-P